DEPARTMENT OF HOMELAND SECURITY

Coast Guard

33 CFR Part 165

[Docket No. USCG-2023-0174]

Safety Zone; Fireworks Display, Elizabeth River, Town Point Reach, Norfolk, VA

AGENCY: Coast Guard, DHS.

ACTION: Notification of enforcement of regulation.

SUMMARY: The Coast Guard will enforce a safety zone regulation for Norfolk's 41st Annual Independence Day Fireworks on July 4, 2023, to provide for the safety of life on navigable waterways during this event. Our regulation for marine events within the Fifth Coast Guard District identifies the regulated area for this event in Norfolk, VA. During the enforcement period, entry of vessels or persons into this zone is prohibited unless specifically authorized by the Captain of the Port Virginia.

DATES: The regulations in 33 CFR 165.506 will be enforced for the location identified as Item 13 in table 3 to paragraph (h)(3) from 9:30 p.m. until 9:50 p.m. on July 4, 2023.

FOR FURTHER INFORMATION CONTACT: If you have questions about this notification of enforcement, call or email LCDR Ashley Holm, Chief, Waterways Management Division, Sector Virginia, U.S. Coast Guard; telephone 757-668-5580 email Ashley.E.Holm@uscg.mil.

SUPPLEMENTARY INFORMATION: As noted in paragraph (c) of § 165.506, the enforcement period(s) for each safety zone identified in paragraph (h) of this section is subject to change, and the enforcement period announced here differs from the enforcement period noted in Table 3 to paragraph (h). The Coast Guard will enforce the safety zone in 33 CFR 165.506 for Norfolk's 41st Annual Independence Day Fireworks regulated area from 9:30 p.m. to 9:50 p.m. on July 4, 2023. This action is being taken to provide for the safety of life on navigable waterways during this 20-minute event. Our regulation for marine events within the Fifth Coast Guard District, § 165.506, specifies the location of the regulated area which encompasses portions of the Elizabeth River and Town Point Reach. During the enforcement periods, entry of vessels or persons into this zone is prohibited unless specifically authorized by the Captain of the Port Virginia.

In addition to this notification of enforcement in the Federal Register, the Coast Guard plans to provide notification of this enforcement period via the Local Notice to Mariners and marine information broadcasts.

Dated: March 1, 2023.
Jennifer A. Stockwell,
Captain, U.S. Coast Guard, Captain of the Port Virginia.

[FR Doc. 2023-04788 Filed 3-7-23; 8:45 am]

BILLING CODE 9110-04-P